DEPARTMENT OF THE TREASURY

Office of Foreign Assets Control

31 CFR Part 587

Publication of Russian Harmful Foreign Activities Sanctions Regulations Web General Licenses 103, 104, 105, 106, and 107

AGENCY: Office of Foreign Assets Control, Treasury.

ACTION: Publication of web general licenses.

SUMMARY: The Department of the Treasury's Office of Foreign Assets Control (OFAC) is publishing five general licenses (GLs) issued pursuant to the Russian Harmful Foreign Activities Sanctions Regulations: GLs 103, 104, 105, 106, and 107, each of which was previously made available on OFAC's website.

DATES: GLs 103, 104, 105, 106, and 107were issued on August 23, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On August 23, 2024, OFAC issued GLs 103, 104, 105, 106, and 107 to authorize certain transactions otherwise prohibited by the Russian Harmful Foreign Activities Sanctions Regulations, 31 CFR part 587 (RuHSR). Each GL was made available on OFAC's website (https://ofac.treasury.gov) when it was issued. GL 104 has an expiration date of September 1, 2025; GL 105 and GL 107 each has an expiration date of October 23, 2024; and GL 106 has an expiration date of October 9, 2024. The text of these GLs is provided below.

OFFICE OF FOREIGN ASSETS CONTROL

Russian Harmful Foreign Activities Sanctions Regulations

31 CFR Part 587

GENERAL LICENSE NO. 103

Authorizing Transactions Related to Imports of Certain Diamond Jewelry Prohibited by Executive Order 14068

(a) Except as provided in paragraph (b) of this general license, all transactions prohibited by the determination of February 8, 2024 made pursuant to sections 1(a)(i)(A) and 1(a)(i)(D) of Executive Order 14068 (“Prohibitions Related to Imports of Diamond Jewelry and Unsorted Diamonds of Russian Federation Origin and Diamond Jewelry and Unsorted Diamonds Exported from the Russian Federation”) that are ordinarily incident and necessary to the importation and entry into the United States, including importation for admission into a foreign trade zone located in the United States, of diamond jewelry that was physically located outside of the Russian Federation prior to March 1, 2024, and not exported or reexported from the Russian Federation on or after March 1, 2024, are authorized.

(b) This general license does not authorize any transactions otherwise prohibited by the Russian Harmful Foreign Activities Sanctions Regulations, 31 CFR part 587 (RuHSR), including transactions involving any person blocked pursuant to the RuHSR, unless separately authorized.

Note to General License No. 103. Nothing in this general license relieves any person from compliance with any other Federal laws or requirements of other Federal agencies.

Lisa M. Palluconi,

Acting Director, Office of Foreign Assets Control.

Dated: August 23, 2024.

OFFICE OF FOREIGN ASSETS CONTROL

Russian Harmful Foreign Activities Sanctions Regulations

31 CFR Part 587

GENERAL LICENSE NO. 104

Authorizing Transactions Related to Imports of Certain Diamonds Prohibited by Executive Order 14068

(a) Except as provided in paragraph (b) of this general license, all transactions prohibited by the determination of February 8, 2024 made pursuant to section 1(a)(i)(B) of Executive Order (E.O.) 14068 (“Prohibitions Related to Imports of Certain Categories of Diamonds”) that are ordinarily incident and necessary to the importation and entry into the United States, including importation for admission into a foreign trade zone located in the United States, of the following categories of diamonds are authorized through 12:01 a.m. eastern daylight time, September 1, 2025, provided that the diamonds were physically located outside of the Russian Federation before, and were not exported or re-exported from the Russian Federation since:

(1) March 1, 2024 for non-industrial diamonds with a weight of 1.0 carat or greater; or

(2) September 1, 2024 for non-industrial diamonds with a weight of 0.5 carats or greater.

Note 1 to paragraph (a). The importation and entry into the United States, including importation for admission into a foreign trade zone located in the United States, of non-industrial diamonds of Russian Federation origin remains prohibited pursuant to section 1(a)(i)(A) of E.O. 14068.

(b) This general license does not authorize any transactions otherwise prohibited by the Russian Harmful Foreign Activities Sanctions Regulations, 31 CFR part 587 (RuHSR), including transactions involving any person blocked pursuant to the RuHSR, unless separately authorized.

Note 2 to General License No. 104. Nothing in this general license relieves any person from compliance with any other Federal laws or requirements of other Federal agencies.

Lisa M. Palluconi,

Acting Director, Office of Foreign Assets Control.

Dated: August 23, 2024.

OFFICE OF FOREIGN ASSETS CONTROL

Russian Harmful Foreign Activities Sanctions Regulations

31 CFR Part 587

GENERAL LICENSE NO. 105

Authorizing Limited Safety and Environmental Transactions and the Unloading of Cargo Involving Certain Blocked Persons or Vessels

(a) Except as provided in paragraph (c) of this general license, all transactions prohibited by Executive Order (E.O.) 14024 that are ordinarily incident and necessary to one of the following activities involving White Fox Ship Management FZCO or any entity in which White Fox Ship Management FZCO owns, directly or indirectly, a 50 percent or greater interest, are authorized through 12:01 a.m. eastern daylight time, October 23, 2024, provided that any payment to a blocked person must be made into a blocked account in accordance with the Russian Harmful Foreign Activities Sanctions Regulations, 31 CFR part 587 (RuHSR):

(1) The safe docking and anchoring in port of any vessels in which any person listed in paragraph (a) of this general license has a property interest (the “blocked vessels”);

(2) The preservation of the health or safety of the crew of any of the blocked vessels; or

(3) Emergency repairs of any of the blocked vessels or environmental mitigation or protection activities relating to any of the blocked vessels.

(b) Except as provided in paragraph (c) of this general license, all transactions prohibited by E.O. 14024 that are ordinarily incident and necessary to the delivery and offloading of cargo involving the blocked persons identified in paragraph (a) are authorized through 12:01 a.m. eastern daylight time, October 23, 2024, provided that the cargo was loaded prior to August 23, 2024.

(c) This general license does not authorize:

(1) The entry into any new commercial contracts involving the property or interests in property of any blocked persons, including the blocked entities described in paragraph (a) of this general license, except as authorized by paragraph (a);

(2) Any transactions prohibited by Directive 2 under E.O. 14024, Prohibitions Related to Correspondent or Payable-Through Accounts and Processing of Transactions Involving Certain Foreign Financial Institutions;

(3) Any transactions prohibited by Directive 4 under E.O. 14024, Prohibitions Related to Transactions Involving the Central Bank of the Russian Federation, the National Wealth Fund of the Russian Federation, and the Ministry of Finance of the Russian Federation; or

(4) Any transactions otherwise prohibited by the RuHSR, including transactions involving the property or interests in property of any person blocked pursuant to the RuHSR, other than transactions involving the blocked persons described in paragraph (a) of this general license, unless separately authorized.

Lisa M. Palluconi,

Acting Director, Office of Foreign Assets Control.

Dated: August 23, 2024.

OFFICE OF FOREIGN ASSETS CONTROL

Russian Harmful Foreign Activities Sanctions Regulations

31 CFR Part 587

GENERAL LICENSE NO. 106

Authorizing the Wind Down of Transactions Involving Certain Entities Blocked on August 23, 2024

(a) Except as provided in paragraph (b) of this general license, all transactions prohibited by Executive Order (E.O.) 14024 that are ordinarily incident and necessary to the wind down of any transaction involving one or more of the following blocked entities are authorized through 12:01 a.m. eastern daylight time, October 9, 2024, provided that any payment to a blocked person is made into a blocked account in accordance with the Russian Harmful Foreign Activities Sanctions Regulations, 31 CFR part 587 (RuHSR):

(1) General Technology Group Dalian Machine Tool Import & Export Co Ltd;

(2) Public Joint Stock Company Yakutskaya Toplivno Energeticheskaya Kompaniya (YATEC);

(3) Joint Stock Company Holdingovaya Kompaniya SDS Ugol;

(4) Public Joint Stock Company Ugolnaya Kompaniya Yuzhnyi Kuzbass;

(5) Joint Stock Company Stroiservis;

(6) Guangzhou Chiphome Information Technology Limited;

(7) Chengdu Jingxin Technology Co Ltd;

(8) Shenzhen Huashuo Semiconductor Co Ltd;

(9) AirBridgeCargo Airlines Limited Liability Company;

(10) Speech Technology Center Limited;

(11) Idronaut S.R.L.;

(12) GRK Bystrinskoye;

(13) Aktsionernoe Obshchestvo Evraz Nizhnetagilski Metallurgicheski Kombinat (NTMK);

(14) Aktsionernoe Obshchestvo Evraz Vanadi Tula;

(15) Aktsionernoe Obshchestvo Evraz Market;

(16) Limited Liability Company Volga Dnepr Airlines;

(17) Atran Limited Liability Company; or

(18) Any entity in which one or more of the above persons own, directly or indirectly, individually or in the aggregate, a 50 percent or greater interest.

(b) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the RuHSR, including transactions involving any person blocked pursuant to the RuHSR other than the blocked persons described in paragraph (a) of this general license, unless separately authorized.

Lisa M. Palluconi,

Acting Director, Office of Foreign Assets Control.

Dated: August 23, 2024.

OFFICE OF FOREIGN ASSETS CONTROL

Russian Harmful Foreign Activities Sanctions Regulations

31 CFR Part 587

GENERAL LICENSE NO. 107

Authorizing Limited Safety and Environmental Transactions Involving Certain Blocked Persons or Vessels

(a) Except as provided in paragraph (c) of this general license, all transactions prohibited by Executive Order (E.O.) 14024 that are ordinarily incident and necessary to one of the following activities involving the blocked persons described in paragraph (b) are authorized through 12:01 a.m. eastern daylight time, October 23, 2024, provided that any payment to a blocked person must be made into a blocked account in accordance with the Russian Harmful Foreign Activities Sanctions Regulations, 31 CFR part 587 (RuHSR):

(1) The safe docking and anchoring in port of any vessels in which any person listed in paragraph (b) of this general license has a property interest (the “blocked vessels”);

(2) The preservation of the health or safety of the crew of any of the blocked vessels; or

(3) Emergency repairs of any of the blocked vessels or environmental mitigation or protection activities relating to any of the blocked vessels.

(b) The authorization in paragraph (a) of this general license applies to the following blocked persons listed on the Office of Foreign Assets Control's Specially Designated Nationals and Blocked Persons List and any entity in which any of the following persons own, directly or indirectly, individually or in the aggregate, a 50 percent or greater interest:

(1) Ocean Speedstar Solutions OPC Private Limited; or

(2) Zara Shipholding Co.

(c) This general license does not authorize:

(1) The entry into any new commercial contracts involving the property or interests in property of any blocked persons, including the blocked entities described in paragraph (b) of this general license, except as authorized by paragraph (a);

(2) The offloading of any cargo onboard any of the blocked vessels, including the offloading of liquefied natural gas of Russian Federation origin, except for the offloading of cargo that is ordinarily incident and necessary to address vessel emergencies authorized pursuant to paragraph (a) of this general license;

(3) Any transactions related to the sale of liquefied natural gas of Russian Federation origin;

(4) Any transactions prohibited by Directive 2 under E.O. 14024, Prohibitions Related to Correspondent or Payable-Through Accounts and Processing of Transactions Involving Certain Foreign Financial Institutions;

(5) Any transactions prohibited by Directive 4 under E.O. 14024, Prohibitions Related to Transactions Involving the Central Bank of the Russian Federation, the National Wealth Fund of the Russian Federation, and the Ministry of Finance of the Russian Federation; or

(6) Any transactions otherwise prohibited by the RuHSR, including transactions involving the property or interests in property of any person blocked pursuant to the RuHSR, other than transactions involving the blocked persons described in paragraph (b) of this general license, unless separately authorized.

Lisa M. Palluconi,

Acting Director, Office of Foreign Assets Control.

Dated: August 23, 2024.

Lisa M. Palluconi,
Acting Director, Office of Foreign Assets Control.

[FR Doc. 2024-19927 Filed 9-5-24; 8:45 am]

BILLING CODE 4810-AL-P